DEPARTMENT OF HEALTH AND HUMAN SERVICES

National Institutes of Health

National Cancer Institute; Amended Notice of Meeting

Notice is hereby given of a change in the meeting of the National Cancer Institute Initial Review Group; Transition to Independence Study Section (I), June 5, 2024, 8 a.m. to June 6, 2024, 1 p.m., Cambria Hotel Rockville, 1 Helen Heneghan Way, Rockville, Maryland 20850 which was published in the Federal Register on May 10, 2024, FR Doc 2024-10229, 89 FR 40496. This notice is being amended to change the meeting format from in-person to virtual and the meeting time from 8 a.m. to 1 p.m. to 11 a.m. to 4 p.m. The meeting will now be held virtually, June 5, 2024, 11 a.m. to June 6, 2024, 4 p.m., National Cancer Institute Shady Grove, 9609 Medical Center Drive, Room 7W238, Rockville, Maryland 20850. The meeting is closed to the public.

Dated: May 14, 2024.
Melanie J. Pantoja,
Program Analyst, Office of Federal Advisory Committee Policy.

[FR Doc. 2024-10873 Filed 5-16-24; 8:45 am]

BILLING CODE 4140-01-P